INTERNATIONAL TRADE COMMISSION

[Investigation No. 731-TA-1104 (Review)]

Certain Polyester Staple Fiber From China

Determination

On the basis of the record ¹ developed in the subject five-year review, the United States International Trade Commission (Commission) determines, pursuant to section 751(c) of the Tariff Act of 1930 (19 U.S.C. 1675(c)), that revocation of the antidumping duty order on certain polyester staple fiber from China would be likely to lead to continuation or recurrence of material injury to an industry in the United States within a reasonably foreseeable time.²

¹ The record is defined in sec. 207.2(f) of the Commission's Rules of Practice and Procedure (19 CFR 207.2(f)).

² Commissioner Meredith Broadbent did not participate.

Background

The Commission instituted this review on May 1, 2012 (77 FR 25744) and determined on August 6, 2012 that it would conduct an expedited review (77 FR 50530, August 21, 2012).

The Commission transmitted its determination in this review to the Secretary of Commerce on September 28, 2012. The views of the Commission are contained in USITC Publication 4351 (September 2012), entitled Certain Polyester Staple Fiber from China: Investigation No. 731-TA-1104 (Review).

By order of the Commission.
Issued: September 28, 2012.
William R. Bishop,
Hearings and Meetings Coordinator.

[FR Doc. 2012-24495 Filed 10-3-12; 8:45 am]

BILLING CODE 7020-02-P